DEPARTMENT OF DEFENSE

Department of the Army; Corps of Engineers

Notice of Intent To Prepare an Environmental Impact Statement and Conduct Public Scoping Meetings for the Fishtrap Lake Road Project, Fishtrap Lake, Pike County, KY

AGENCY: Department of the Army, U.S. Army Corps of Engineers, DoD.

ACTION: Notice.

SUMMARY: Pursuant to the National Environmental Policy Act (NEPA), the Huntington District, U.S. Army Corps of Engineers, DoD, will prepare an Environmental Impact Statement (EIS). The EIS will evaluate potential direct, indirect and cumulative impacts to the natural, physical, and human environment resulting from construction of one or more roads proposed to serve recreational development and community access needs at the Fishtrap Lake Project near Millard, Pike County, KY.

ADDRESSES: Send written comments and suggestions concerning this proposed project to Peter K. Dodgion PD-R, U.S. Army Corps of Engineers, Huntington District, 502 Eighth Street, Huntington, WV 25701-2070. Telephone: 304-399-5873. Electronic mail: peter.k.dodgion@usace.army.mil. Requests to be placed on the mailing list should also be sent to this address.

FOR FURTHER INFORMATION CONTACT: To obtain additional information about the proposed project, contact Beth A. Cade PD-F, U.S. Army Corps of Engineers, Huntington District, 502 Eighth Street, Huntington, WV 25701-2070. Telephone: 304-399-5848. Electronic mail: beth.a.cade@usace.army.mil.

SUPPLEMENTARY INFORMATION: 1. Public Participation:

a. The Corps of Engineers will conduct public scoping workshops to gain input from interested agencies, organizations, and the general public concerning the content of the EIS, issues and impacts to be addressed in the EIS, and alternatives that should be analyzed. Three public scoping workshops are scheduled as follows:

(1) January 23, 2006, from 6-8:30 p.m., Kimper Grade School, 8151 State Highway 194, East Kimper, KY;

(2) January 24, 2006, from 12-2:30 p.m., Pike County Courthouse, Fiscal Courtroom, 146 Main Street, Pikesville, KY; and,

(3) January 24, 2006 from 6-8:30 p.m., Millard Grade School, 20 Rocky Road, Pikesville, KY.

b. The Corps invites full public participation to promote open communication and better decision-making. All persons and organizations that have an interest in the community access and recreation at and around Fishtrap Lake are urged to participate in this NEPA environmental analysis process. Assistance will be provided upon request to anyone having difficulty with learning how to participate.

c. Public comments are welcomed anytime throughout the NEPA process. Formal opportunities for public participation include: (1) Public meetings to be held near the Fishtrap Lake Project; (2) Anytime during the NEPA process via mail, telephone, fax, or e-mail; (3) During Review and Comment on the Draft EIS—approximately Fall 2006; and, (4) Review of the Final EIS—approximately Spring 2007. Schedules and locations will be announced in local news media. Interested parties may also request to be included on the mailing list for public distribution of meeting announcements and documents. (See ADDRESSES).

d. To ensure that all issues related to the proposed project are addressed, the Corps will conduct an open process to define the scope of the EIS. Recommendations from interested agencies, local and regional stakeholders and the general public are encouraged to provide input into regional recreational needs, community access, and other issues and concerns that should be considered in formulation and evaluation of project alternatives and documented in the EIS. Scoping for the EIS will continue to build upon the knowledge and information developed in the approximately 40 years the Corps of Engineer has managed the Fishtrap Lake Project.

2. Background:

a. The Fishtrap Lake Project (Project), which became operational in 1969, includes a 2,631-acre impoundment of the Levisa Fork, a tributary of the Big Sandy River. The dam is located 103.3 miles above the mouth of the Levisa Fork. The Project consists of 15,786 acres in this rugged mountainous area of Southeastern Kentucky. In addition to flood control, Congressionally authorized project purposes include recreation, low-flow augmentation, and fish and wildlife conservation. About 12,000 acres are currently leased to the Kentucky Division of Fish and Wildlife for wildlife management.

b. The proposed road at Fishtrap Lake was named in the Consolidated Appropriations Act of 2004 (Act). The Act also provided under the General Provisions for Federal Highway Administration (FHWA) that “funds made available under this section may, at the request of a State, be transferred by the Secretary to another Federal agency to carry out a project funded under this section, such funds to be then administered by the procedures of the Federal agency to which such funds may be transferred”. Pursuant to this provision, FHWA transferred the funding to the Huntington District U.S. Army Corps of Engineers to execute the project. FHWA will participate in the EIS development as a cooperating agency.

c. An evaluation of current and reasonably foreseeable future recreation demands of the region that could be served by the Fishtrap Project will be conducted within this study. Pike County has long been interested in development of the recreation potential of the Project as a means to diversify the region's predominately coal extraction-based economy. Inundation to create Fishtrap Lake affected access of certain communities adjacent to the project. An array of acceptable recreation alternatives as well as community access needs will provide the basis for road alternatives.

d. Alternatives to be considered will include the No Action alternative, or no road development; and alternatives formulated to address the results of the assessments of recreational needs and community access with input through internal and external scoping.

William E. Bulen,
Colonel, Corps of Engineers, District Engineer, Huntington.

[FR Doc. 06-101 Filed 1-5-06; 8:45 am]

BILLING CODE 3710-GM-M